DEPARTMENT OF HOMELAND SECURITY

Coast Guard

[Docket No. USCG-2010-0088]

Towing Safety Advisory Committee; Meetings

AGENCY: Coast Guard, DHS.

ACTION: Notice of meetings.

SUMMARY: The Towing Safety Advisory Committee and its working group on the Revision of Navigation and Vessel Inspection Circular 04-01 will meet in Pittsburgh, PA. The Committee will also discuss various issues relating to shallow-draft inland and coastal waterway navigation and towing safety. All meetings will be open to the public.

DATES: The working group will meet on Wednesday, September 1, 2010, from 8:30 a.m. to 4:30 p.m. The full Committee will meet on Thursday, September 2, 2010, from 8:30 a.m. to 4 p.m. These meetings may close early if all business is completed. Written material and requests to make oral presentations at the meetings should reach the Coast Guard on or before August 24, 2010. Requests to have a copy of your material distributed to each member of the Committee or working groups should reach the Coast Guard electronically on or before August 24, 2010.

ADDRESSES: The meetings will be held at the Doubletree Hotel and Suites Pittsburgh City Center, One Bigelow Square, Pittsburgh, PA 15219. Phone: 1-412-281-5800, Toll-free: 1-800-222-8733. The nearest large commercial airport is Pittsburgh International Airport (PIT). Information on and directions to the Doubletree Hotel and Suites may be found on its Web site at http://www.pittsburghcitycenter.doubletree.com.

Send written material and requests to make oral presentations to the Towing Safety Advisory Committee (TSAC) Alternate Designated Federal Officer (ADFO), identified in the FOR FURTHER INFORMATION CONTACT section below. This notice is available on the Internet at http://www.regulations.gov under the docket number USCG-2010-0088.

FOR FURTHER INFORMATION CONTACT: Mr. Michael J. Harmon, ADFO, TSAC; U.S. Coast Guard Headquarters, CG-5222; 2100 Second Street, SW., STOP 7126; Washington, DC 20593-7126. Telephone (202) 372-1427, fax (202) 372-1926, or e-mail at: Michael.J.Harmon@USCG.MIL.

SUPPLEMENTARY INFORMATION: Notice of these meetings is given under the Federal Advisory Committee Act (FACA), 5 U.S.C. App. (Pub. L. 92-463)]. This Committee is established in accordance with and operates under the provisions of the FACA. It was established under the authority of 33 U.S.C. 1231a, and advises the Secretary of the Department of Homeland Security (DHS) on matters relating to shallow-draft inland and coastal waterway navigation and towing safety. TSAC advises, consults with, and makes recommendations reflecting the Committee's independent judgment to the Secretary on matters and actions concerning shallow-draft inland and coastal waterway navigation and towing safety. TSAC may complete specific assignments such as studies, inquiries, workshops, and fact finding in consultation with individuals and groups in the private sector and/or with State and local government jurisdictions in compliance with FACA.

Agenda of Meetings

Navigation and Vessel Inspection Circular (NVIC) 04-01 Working Group. The agenda for the working group is as follows:

(1) Review the current draft proposal, and continue discussions on possible revisions to, NVIC 04-01 “Licensing and Manning for Officers of Towing Vessels” (The current version of the NVIC can be viewed at http://www.uscg.mil/hq/cg5/nvic/2000s.ASP#2001.);

(2) Barge Fleeting and Lighting Problems;

(3) Review proposals on licenses for personnel aboard assist vessels;

(4) Discuss lessons learned from the T/V Elizabeth M casualty and

(5) Continue work on Task Statement 08-01 Licensing and Manning for Officers of Towing Vessels (a copy of the amended Task Statement 08-01 is available in the docket where listed under ADDRESSES), including the enclosures on the Towing Officer Assessment Records (TOARs).

Towing Safety Advisory Committee. The tentative agenda for the Committee is to receive information and updates, and to discuss the following (will be available for the public review 30 days following the close of the meeting and can be accessed from the Coast Guard Homeport Web site http://homeport.uscg.mil.)

(1) Commercial/Recreational Boating Interface (TSAC Acting Chairman).

(2) Work Group Report on the Review and Recommendations for the Revision of NVIC 04-01 “Licensing and Manning for Officers of Towing Vessels;”

(3) Sub-Working Group on Assistance Towing Report on the Review and Recommendations for the Revision of NVIC 04-01, Licensing and Manning for Officers of Towing Vessels;

(4) National Maritime Center (NMC) activities (NMC Commanding Officer);

(5) Transportation Worker Identification Credential (TWIC) (CG-5422 Boating Safety);

(6) Office of Vessel Activities information (CG-5431 Office of Vessel activities), and the Towing Vessel National Center of Expertise (Towing Vessel National Center of Expertise); and

(7) Processes and procedures of the Coast Guard Marine Investigations and Casualty Analysis Branch (CG-545) (Captain Fish)

Procedural

All meetings are open to the public. Please note that the meetings may close early if all business is complete. At the Chair's discretion, members of the public may make oral presentations during the meetings. If you would like to make an oral presentation at a meeting, please notify the ADFO, listed above in the FOR FURTHER INFORMATION CONTACT section, no later than August 24, 2010. Written material (20 copies) for distribution at a meeting should reach the Coast Guard no later than August 24, 2010. If you would like a copy of your material distributed to each member of the Committee or Working Groups in advance of a meeting, please submit it electronically to the ADFO, for e-mail distribution, no later than August 24, 2010. Also at the Chair's discretion, members of the public may present comment at the end of the Public Meeting. Please understand that the Committee's schedule may be quite demanding and time for public comment may be limited.

Minutes

Minutes from the meeting will be available for the public review 30 days following the close of the meeting and can be accessed from the Coast Guard Homeport Web site http://homeport.uscg.mil.

Information on Services for Individuals With Disabilities

For information on facilities or services for individuals with disabilities or to request special assistance at the meetings, contact the ADFO as soon as possible.

Dated: August 5, 2010.
J.G. Lantz,
Director of Commercial Regulations and Standards.

[FR Doc. 2010-20251 Filed 8-16-10; 8:45 am]

BILLING CODE 9110-04-P